FEDERAL COMMUNICATIONS COMMISSION

Notice of Public Information Collection(s) Being Reviewed by the Federal Communications Commission, Comments Requested

June 4, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 12, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW., Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-0126.

Title: Section 73.1820, Station Log.

Form No.: N/A.

Type of Review: Extension of a currently approved collection.

Respondents: Business or other for-profit, and not-for-profit institutions.

Number of Respondents: 15,122.

Estimated Time Per Response: 0.17 hours to 0.5 hours.

Frequency of Response: Recordkeeping requirement.

Total Annual Burden: 15,326 hours.

Total Annual Cost: N/A.

Needs and Uses: Section 73.1820 requires that each licensee of an AM, FM or TV broadcast station maintain a station log. Each entry must accurately reflect the station's operation. This log should reflect adjustments to operating parameters for AM stations with directional antennas without an approved sampling system; for all stations the actual time of any observation of extinguishment or improper operation of tower lights; and entry of each test of the Emergency Alert System (EAS) for commercial stations. The data is used by FCC staff in field investigations to assure that the licensee is operating in accordance with the technical requirements as specified in the FCC Rules and with the station authorization, and is taking reasonable measures to preclude interference to other stations. It is also used to verify that the EAS is operating properly.

OMB Control No.: 3060-0641.

Title: Notification to File Progress Report.

Form No.: FCC Form 218-I.

Type of Review: Revision of a currently approved collection.

Respondents: Business or other for-profit, and individuals or households.

Number of Respondents: 500.

Estimated Time Per Response: 1 hour.

Frequency of Response: On occasion reporting requirement.

Total Annual Burden: 500 hours.

Total Annual Cost: N/A.

Needs and Uses: The data collected is used by Commission staff to determine whether the 218-219 MHz licensee (previously IVDS) is entitled to their authorization to operate. From this data, the Commission is able to confirm that the licensee has provided a showing of “substantial service” to the population or land area within 10 years of the license grant pursuant to 47 CFR 95.833. The data collected ensure licensees are making proper use of the spectrum.

OMB Control No.: 3060-0714.

Title: Antenna Registration Number Required as Supplement to Application Forms.

Form No.: N/A.

Type of Review: Extension of a currently approved collection.

Respondents: Individuals or households, business or other for-profit, not-for-profit institutions, state, local and tribal government, and federal government.

Number of Respondents: 516,000.

Estimated Time Per Response: .084 hours (or five minutes).

Frequency of Response: On occasion reporting requirement.

Total Annual Burden: 43,344 hours.

Total Annual Cost: N/A.

Needs and Uses: In July 1996, the antenna clearance procedures were replaced with a uniform registration procedure that applied to antenna structure owners. Structure owners receive an Antenna Structure Registration Number which is a unique number that identifies an antenna structure. Once obtained, this number must be used on all filings related to the antenna structure. Collecting the registration number enables the Commission to efficiently maintain a registration database, as well as process the applications without unnecessary delay related to antenna structure discrepancies. By entering the registration number in the database, the antenna clearance can immediately be validated for accuracy through the Universal Licensing System (ULS).

OMB Control No.: 3060-0850.

Title: Quick-Form Application for Authorization in the Ship, Aircraft, Amateur, Restricted, and Commercial Operator, and General Mobile Radio Services.

Form No.: FCC Form 605.

Type of Review: Revision of a currently approved collection.

Respondents: Individuals or households, business or other for-profit, not-for-profit institutions, and state, local, or tribal government.

Number of Respondents: 175,000.

Estimated Time Per Response: .44 hours.

Frequency of Response: On occasion reporting requirement and third party disclosure requirement.

Total Annual Burden: 77,000 hours.

Total Annual Cost: $2,537,500.

Needs and Uses: The FCC Form 605 is a consolidated application form for various services and is used to collect licensing data for the Universal Licensing System (ULS). The form is being revised to include a new operator class code for the Restricted and Commercial Radio Operators and to clarify existing instructions for the general public. There is also a change to the estimated average burden and increased number of respondents due to additional filings for exemptions since the last submission to the Office of Management and Budget (OMB).

Federal Communications Commission.
Marlene H. Dortch,
Secretary.

[FR Doc. 02-14647 Filed 6-10-02; 8:45 am]

BILLING CODE 6712-01-P